DEPARTMENT OF INTERIOR

Bureau of Land Management

[LLCO956000.L14200000 BJ0000]

Notice of Filing of Plats

AGENCY: Bureau of Land Management, Interior.

ACTION: Notice of Filing of Plats; Colorado

SUMMARY: The Bureau of Land Management (BLM) Colorado State Office is publishing this notice to inform the public of the intent to file the land survey plats listed below, and to afford all affected parties a proper period of time to protest this action, prior to the plat filing.

DATES: Unless there are protests of this action, the filing of the plats described in this notice will happen on December 30, 2011.

ADDRESSES: BLM Colorado State Office, Cadastral Survey, 2850 Youngfield Street, Lakewood, Colorado 80215-7093.

FOR FURTHER INFORMATION CONTACT: Randy Bloom, Chief Cadastral Surveyor for Colorado, (303) 239-3856.

SUPPLEMENTARY INFORMATION: The supplemental plat of the SW1/4 of Tract 38 in Township 41 North, Range 7 West, New Mexico Principal Meridian, Colorado, was accepted on July 1, 2011.

The plat and field notes of the dependent resurvey and survey in Township 7 South, Range 69 West, Sixth Principal Meridian, Colorado, were accepted on July 7, 2011.

The plat and field notes of the dependent resurvey and a metes-and-bounds survey in Township 9 North, Range 78 West, Sixth Principal Meridian, Colorado, were accepted on July 15, 2011.

The plat and field notes of the dependent resurvey and a metes-and-bounds survey in Township 9 North, Range 79 West, Sixth Principal Meridian, Colorado, were accepted on July 15, 2011.

The supplemental plat, in 4 sheets, of Section 19, in Township 1 North, Range 71 West, Sixth Principal Meridian, Colorado, was accepted on August 3, 2011.

The plat and field notes of the dependent resurvey and survey in Township 11 North, Range 88 West, Sixth Principal Meridian, Colorado, were accepted on August 4, 2011.

The plat and field notes of the dependent resurvey and survey in Fractional Township 12 North, Range 88 West, Sixth Principal Meridian, Colorado, were accepted on August 4, 2011.

The plat and field notes of the corrective dependent resurvey, dependent resurvey and survey in Township 14 South, Range 68 West, Sixth Principal Meridian, Colorado, were accepted on August 10, 2011.

The plat and field notes of the dependent resurvey and survey in Township 35 North, Range 8 East, New Mexico Principal Meridian, Colorado, were accepted on August 10, 2011.

The plat and field notes of the dependent resurvey in Township 33 North, Range 17 West, New Mexico Principal Meridian, Colorado, were accepted on August 19, 2011.

The plat and field notes of the dependent resurvey and survey in Township 1 South, Range 76 West, Sixth Principal Meridian, Colorado, were accepted on September 13, 2011.

The plat and field notes of the dependent resurvey and survey in Township 1 South, Range 77 West, Sixth Principal Meridian, Colorado, were accepted on September 13, 2011.

The plat incorporating the field notes of the dependent resurvey and survey in Township 42 North, Range 10 East, New Mexico Principal Meridian, Colorado, was accepted on September 22, 2011.

The plat and field notes of the dependent resurvey and survey in Fractional Township 2 South, Range 1 East, Ute Meridian, Colorado, were accepted on October 13, 2011.

The plat and field notes of the dependent resurvey and survey in Township 26 South, Range 71 West, Sixth Principal Meridian, Colorado, were accepted on October 28, 2011.

The plat and field notes of the dependent resurvey in Township 11 North, Range 89 West, Sixth Principal Meridian, Colorado, were accepted on October 28, 2011.

Randy Bloom,
Chief Cadastral Surveyor for Colorado.

[FR Doc. 2011-30826 Filed 11-29-11; 8:45 am]

BILLING CODE 4310-JB-P